NUCLEAR REGULATORY COMMISSION

Sunshine Act; Meetings

Date: Weeks of July 18, 25, August 1, 8, 15, 22, 2005.

Place: Commissioners' Conference Room, 11555 Rockville Pike, Rockville, Maryland.

Status: Public and Closed.

Matters to be Considered:

Week of July 18, 2005

11 a.m.—Affirmation Session (Public Meeting) (Tentative).

a. Private Fuel Storage (Independent Spend Fuel Storage Installation) Docket No. 72-22-ISFSI; unpublished Board order (April 25, 2005) (Tentative).

b. Dominion Nuclear Connecticut, Inc. (Millstone Nuclear Power Station, Units 2 and 3), Docket Nos. 50-336-LR & 50-423-LR (Tentative).

Week of July 25, 2005—Tentative

Thursday, July 28, 2005:

1:30 p.m.—Discussion of Security Issues (Closed-Ex. 1).

Week of August 1, 2005—Tentative

There are no meetings scheduled for the week of August 1, 2005.

Week of August 8, 2005—Tentative

There are no meetings scheduled for the week of August 8, 2005.

Week of August 15, 2005—Tentative

Tuesday, August 16, 2005:

10 a.m.—Meeting with the Organization of Agreement States (OAS) and the Conference of Radiation Control Program Directors (CRCPD) (Public Meeting) (Contact: Shawn Smith, (301) 415-2620).

This meeting will be webcast live at Web address— http://www.nrc.gov.

1 p.m.—Discussion of Security Issues (Closed-Ex. 1).

Week of August 22, 2005—Tentative

There are no meetings scheduled for the week of August 22, 2005.

The schedule for Commission meetings is subject to change on short notice. To verify the status of meetings call (recording)—(301) 415-1292. Contact person for more information: David Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these meetings, or need this meeting notice or the transcript or other information from the public meetings in another format (e.g. braille, large print), please notify the NRC's Disability Program Coordinator, August Spector, at 301-415-7080, TDD: 301-415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: July 14, 2005.
R. Michelle Schroll,
Office of the Secretary.

[FR Doc. 05-14207 Filed 7-15-05; 10:10 am]

BILLING CODE 7590-01-M